ENVIRONMENTAL PROTECTION AGENCY

[EPA-HQ-OPPT-2015-0435; FRL-10011-99-OMS]

Information Collection Request Submitted to OMB for Review and Approval; Comment Request; Notification of Chemical Exports—TSCA Section 12(b) (Renewal)

AGENCY: Environmental Protection Agency (EPA).

ACTION: Notice.

SUMMARY: The Environmental Protection Agency (EPA) has submitted an information collection request (ICR), Notification of Chemical Exports—TSCA Section 12(b) (EPA ICR Number 0795.16 and OMB Control Number 2070-0030) to the Office of Management and Budget (OMB) for review and approval in accordance with the Paperwork Reduction Act. This is a proposed extension of the ICR, which is currently approved through November 30, 2020. Public comments were previously requested via the Federal Register on March 12, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 30, 2020.

ADDRESSES: Submit your comments to EPA, referencing Docket ID No. EPA-HQ-OPPT-2015-0435, online using www.regulations.gov (our preferred method), or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Harlan Weir, Chemical Control Division, Office of Pollution Prevention and Toxics, Environmental Protection Agency, 1200 Pennsylvania Ave. NW, Washington, DC 20460; telephone number: (202) 564-9885; email address: weir.harlan@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR addresses the information collection activities associated with the export notification requirements under section 12(b) of the Toxic Substances Control Act (TSCA), which requires any person who exports or intends to export a chemical substance or mixture that is regulated under TSCA sections 4, 5, 6 and/or 7 to notify EPA of such export or intent to export. This requirement is described in more detail in 40 CFR part 707, subpart D. Upon receipt of notification, EPA advises the government of the importing country of the U.S. regulatory action that required the notification with respect to that substance. EPA uses the information obtained from the submitter via this collection to advise the government of the importing country. This information collection addresses the burden associated with industry reporting of export notifications. Respondents may claim all or part of a notice confidential, and EPA will disclose that information only to the extent permitted by, and in accordance with, the procedures in TSCA and 40 CFR part 2. As discussed in more detail in this ICR's supporting statement, this ICR renewal also incorporates burden estimates associated with an electronic reporting option for the information collection under TSCA section 12(b), for which EPA is requesting approval from OMB in this ICR renewal request.

Form Numbers: None.

Respondents/affected entities: Exporters of chemical substances or mixtures from the United States to foreign countries.

Respondent's obligation to respond: mandatory (TSCA section 12(b) and 40 CFR part 707, subpart D.)

Estimated number of respondents: 198 (total).

Frequency of response: On occasion.

Total estimated burden: 2,934 hours (per year). Burden is defined at 5 CFR 1320.03(b).

Total estimated costs: $230,198 (per year), which includes $13,793,30 in annualized capital or operation & maintenance costs.

Changes in the estimates: There is an overall decrease of 1,098 hours in the total estimated respondent burden compared with the ICR currently approved by OMB. This decrease reflects a net change with a large decrease in burden due to the anticipated use of e-reporting and a small increase in burden due to other minor changes in the assumptions and related estimates. This change is an adjustment to the estimates.

Courtney Kerwin,
Director, Regulatory Support Division.

[FR Doc. 2020-21615 Filed 9-29-20; 8:45 am]

BILLING CODE 6560-50-P